NATIONAL SCIENCE FOUNDATION

Advisory Committee for Mathematical and Physical Sciences Notice of Meeting

In accordance with Federal Advisory Committee Act (Pub. L. 92-463, as amended), the National Science Foundation announces the following meeting:

Name: Advisory Committee for Mathematical and Physical Sciences (#66).

Date/Time: July 18, 2014: 12:30 p.m. to 5:30 p.m.

Place: National Science Foundation, 4201 Wilson Boulevard, Suite 1235, Arlington, Virginia 22230.

To help facilitate your entry into the building, contact Caleb Autrey (cautrey@nsf.gov). Your request should be received on or prior to July 14, 2014.

Virtual attendance will be supported. For detailed instructions, visit the meeting Web site at http://www.nsf.gov/events/event_summ.jsp?cntn_id=130169&org=MPS.

Type of Meeting: Open, Virtual.

Contact Person: Kelsey Cook, National Science Foundation, 4201 Wilson Boulevard, Suite 1005, Arlington, Virginia 22230, 703-292-7490 AND Caleb Autrey, National Science Foundation, 4201 Wilson Boulevard, Suite 1005, Arlington, Virginia 22230, 703-292-5137.

Minutes: Meeting minutes and other information may be obtained from the Staff Associate and MPSAC Designated Federal Officer at the above address or the Web site at http://www.nsf.gov/mps/advisory.jsp.

Purpose of Meeting: To study data, programs, policies, and other information pertinent to the National Science Foundation and to provide advice and recommendations concerning research in mathematics and physical sciences.

Agenda

• State of the Directorate for Mathematical and Physical Sciences (MPS): Challenges and Opportunities

• Final Reports for all four subcommittees (StatsNSF, Optics and Photonics, Food Security, and Materials Instrumentation)

• Follow-up to April 2014 Merit Review AC discussion.

Dated: June 13, 2014.
Suzanne Plimpton,
Acting, Committee Management Officer.

[FR Doc. 2014-14283 Filed 6-18-14; 8:45 am]

BILLING CODE 7555-01-P